DEPARTMENT OF ENERGY

Federal Energy Regulatory Commission

[Project No. 2987-000]

Joe Vavuris and Ryan Wiegel; Notice of Existing Licensee's Failure To File a Timely Notice of Intent To File a Subsequent License Application, and Soliciting Notices of Intent To File a License Application and Pre-Application Documents

The current license for the Cornwell Hydroelectric Project No. 2987 (Cornwell Project) was issued to the original licensees, Howard Wayne and Verna Jean Cornwell, on May 7, 1980.¹ The license was transferred to the current licensees, Joe Vavuris and Ryan Wiegel on August 18, 2008.² The original license was issued for a term of 50 years, ending April 30, 2030. The 6-kilowatt (kW) project is located in the Klamath National Forest on a tributary of Merrill Creek in Siskiyou County, California.

¹ See Howard Wayne and Verna Jean Cornwell, 11 FERC ¶ 62,092 (1980).

² See Howard and Verna Cornwell, Joe Vavuris and Ryan Wiegel, 124 FERC ¶ 62,137 (2008).

The Cornwell Project consists of: (1) a small intake box; (2) a 4,000-foot-long aluminum and PVC pipe, 6-inches in diameter that delivers water to the turbine; (3) a powerhouse that contains a 6-inch diameter Pelton turbine, a 12 kW single phase generator, a load controller and; (4) a 1.5-foot-long, 5-feet-wide and 2-feet-deep metal open box that delivers water back to Merrill Creek.

At least five years before the expiration of a license for a minor water power project in which sections 14 and 15 of the Federal Power Act were waived, the Commission's regulations require the licensee to file with the Commission a notice of intent (NOI) that contains an unequivocal statement of the licensee's intention to file or not to file an application for a subsequent license, details on the principal project works and installed plant capacity, and other information.³

³ 18 CFR 16.19(b) (2024) (citing 18 CFR 16.6(b)). Section 16.19(b) applies to licenses not subject to Parts 14 and 15 of the Federal Power Act.

If such a licensee does not inform the Commission that it intends to file an application for, in this case, a subsequent license for the project, the licensee may not file an application for a subsequent license, either individually or in conjunction with an entity or entities that are not currently licensees of the project.⁴

⁴ 18 CFR 16.24(b) (2024).

Because the current license expires on April 30, 2030, the NOI was due to be filed no later than the close of business on April 30, 2025. Joe Vavuris and Ryan Wiegel, the current licensee for the Cornwell Project, failed to file an NOI by this date.

Any party interested in filing a license application for the Cornwell Project No. 2987 must first file a NOI ⁵ and pre-application document (PAD) ⁶ pursuant to Part 5 of the Commission's regulations. Although the integrated licensing process is the default pre-filing process, section 5.3(b) of the Commission's regulations allows a potential license applicant to request to use alternative licensing procedures when it files its NOI.⁷

⁵ 18 CFR 5.5 (2024).

⁶ 18 CFR 5.6 (2024).

⁷ 18 CFR 5.3(b) (2024).

This notice sets a deadline of 120 days from the date of this notice for interested applicants, other than the existing licensee, to file NOIs, PADs, and requests to use an alternative licensing process.

Applications for a subsequent license from potential (non-licensee) applicants must be filed with the Commission at least 24 months prior to the expiration of the current license.⁸ Because the current license expires on April 30, 2030, applications for license for this project must be filed by April 30, 2028.⁹

⁸ 18 CFR 16.20 (2024).

⁹ To the extent an interested applicant files an NOI and PAD and elects or is required to use the Commission's ILP, a process plan will be issued within 180 days of this notice, which accelerates the steps of the ILP to allow for filing a subsequent license application by the April 30, 2028, deadline.

Questions concerning this notice should be directed to Shannon Archuleta at (503) 552-2739 or shannon.archuleta@ferc.gov.

Dated: July 16, 2025.
Debbie-Anne A. Reese,
Secretary.

[FR Doc. 2025-13624 Filed 7-18-25; 8:45 am]

BILLING CODE 6717-01-P